DEPARTMENT OF DEFENSE

Department of the Army; Corps of Engineers

Intent To Prepare a Draft Environmental Impact Statement [DEIS] for the Boeuf-Tensas Basin, Southeast Arkansas, Feasibility Report

AGENCY: U.S. Army Corps of Engineers, Vicksburg District, DOD.

ACTION: Notice of Intent.

SUMMARY: The feasibility study for the Boeuf-Tensas Basin, Southeast Arkansas will be conducted to fully evaluate a range of alternatives to provide a plan for flood control, environmental protection/restoration, and agricultural water supply in Chicot, Desha, Ashley, Drew, Lincoln, and Jefferson Counties, Arkansas.

FOR FURTHER INFORMATION CONTACT: Mr. Larry Marcy (telephone (601) 631-5965), CEMVK-PP-PQ, 4155 Clay Street, Vicksburg, Mississippi 39183-3435.

SUPPLEMENTARY INFORMATION: This study is authorized by a resolution of the Senate Committee on Environment and Public Works adopted 23 June 1988.

1. Proposed Action: Feasibility studies for the Boeuf-Tensas Basin, Southeast Arkansas study will be conducted to fully evaluate a range of alternatives to provide a multipurpose plan for flood control, agricultural water supply, and environmental protection and/or enhancement. Various alternatives will be analyzed, and assuming a feasible plan is identified, design studies will be completed to develop a baseline cost estimate and schedule for implementation.

2. Alternatives: One feasible implementable plan was identified during the Reconnaissance Study and documented in the Final Reconnaissance Report, February 1991. This plan would use water from seven different sources and/or methods, including rainfall, existing streamflows at the safe and legal rate of withdrawal, ground water at the safe yield, existing on-farm storage reservoirs, new on-farm storage reservoirs, import water from the Arkansas River, and water conservation. The primary delivery system to import water from the Arkansas River would consist of approximately 136 miles of channel excavation; one 75-cubic-foot-per-second pump station at Harding Drain in Pine Bluff, Arkansas; four gravity structures through the Arkansas River south bank levees at Linwood, Douglas Lake, Silver Lake, and Belcoe Lake; a dam across the south end of Morgan Point Cutoff; a 680-cubic-foot-per-second pump station near Tillar, Arkansas; and 28 weirs in the main water supply channels. The secondary delivery system would consist of 75 lateral and 8 sublaterals to divert irrigation water from the main water supply channels to the beginning of an on-farm irrigation system; 4,830 relifts to supply water to the laterals and on-farm delivery systems; approximately 1,361,000 linear feet of permanent underground pipelines; and 670 on-farm reservoirs.

3. Additional alternatives that may be included are:

a. Water supply plans to meet three different design drought conditions.

b, Additional import points along the Arkansas River similar to the plan selected for detailed analysis in the Reconnaissance Study.

c. One import point on the Mississippi River to supply a portion of the unmet water needs of the Basin.

d. Utilization of on-farm storage and water conservation measures to meet all or a portion of the water needs in the Basin.

e. Upland reservoirs west of Bayou Bartholomew to supply a portion of the unmet water needs of the Basin.

f. Various levels of flood control and the impacts of the water supply alternatives on the existing level of flood protection.

g. Features to restore, protect, and/or enhance the environment. Opportunities exist to improve the productivity of streams and oxbow lake fisheries; restore, protect, and/or enhance the remaining tracts of bottom-land hardwoods and forested wetlands to benefit Neotropical migratory birds; and migratory waterfowl.

h. Other alternatives may be developed through the scoping process described below.

4. The National Environmental Policy Act (40 CFR Parts 1500-1508) requires all Federal agencies involved in water resources planning to conduct a process termed “scoping.” This scoping process determines the issues to be addressed and identifies the significant issues related to a proposed action. To accomplish this, two public scoping meetings will be held. One meeting is tentatively scheduled to be held at Pine Bluff, Arkansas, and one meeting at McGehee, Arkansas. These meetings are scheduled to be held in August 2000. Significant issues identified in the scoping meetings will be analyzed in depth in the DEIS. Significant issues currently identified include, but are not limited to, excessive sedimentation, excessive nutrients, trash dumping, log jams, reduced instream flow, habitat alteration, lack of diverse use, lack of public access, contaminants, and rock weirs. The Environmental Protection Agency, U.S. Fish and Wildlife Service, Natural Resources Conservation Service, Arkansas Department of Environmental Quality, Arkansas Game and Fish Commission, and the Arkansas Soil and Water Conservation Commission will be invited to become cooperating agencies. These agencies will be asked to review data, the feasibility report, and appendixes. A public meeting will be held once the DEIS is completed. All interested agencies, groups, tribes, and individuals will be sent copies of the DEIS and final EIS.

5. The DEIS is estimated to be completed in March 2005.

Robert Crear,
Colonel, Corps of Engineers, District Engineer.

[FR Doc. 00-18537 Filed 7-20-00; 8:45 am]

BILLING CODE 3710-PU-M